DEPARTMENT OF HEALTH AND HUMAN SERVICES

Health Resources and Services Administration

Advisory Committee on Training in Primary Care Medicine and Dentistry; Notice of Meeting

In accordance with section 10(a)(2) of the Federal Advisory Committee Act (Public Law 92-463), notice is hereby given of the following advisory committee meeting. The meeting will be open to the public.

Name: Advisory Committee on Training in Primary Care Medicine and Dentistry.

Date and Time: February 10, 2003; 8:30 a.m.-4:30 p.m., February 11, 2003; 8 a.m.-2 p.m.

Place: The Holiday Inn Select, 8120 Wisconsin Avenue, Bethesda, Maryland 20814.

Purpose: The Advisory Committee provides advice and recommendations on a broad range of issues dealing with programs and activities authorized under section 747 of the Public Health Service Act as amended by The Health Professions Education Partnership Act of 1998, Public Law 105-392. This meeting will be devoted to drafting the third report of the Advisory Committee which will be submitted to Congress and the Secretary of the Department of Health and Human Services in November 2003. The third report will focus on disparities in health care and their implications for primary care medical education.

Agenda: The meeting on February 10 will begin with welcoming and opening comments from the Chair and Executive Secretary of the Advisory Committee. A plenary session will follow in which the Advisory Committee members will work to draft various sections of the third report. The Advisory Committee will also divide into two workgroups to further develop the report.

On February 11 the Advisory Committee will meet in plenary session to discuss performance measures for programs under section 747 of the Public Health Service Act and methods of disseminating Advisory Committee recommendations. The Advisory Committee will discuss its role and provide an opportunity for public comment.

FOR FURTHER INFORMATION CONTACT: Anyone interested in obtaining a roster of members or other relevant information should write or contact Stan Bastacky, D.M.D., M.H.S.A., Acting Deputy Executive Secretary, Advisory Committee on Training in Primary Care Medicine and Dentistry, Parklawn Building, Room 9A-21, 5600 Fishers Lane, Rockville, Maryland 20857, Telephone (301) 443-6326. The web address for information on the Advisory Committee is http://bhpr.hrsa.gov/medicine-dentistry/actpcmd.

Dated: January 10, 2003.
Jane M. Harrison,
Director, Division of Policy Review and Coordination.

[FR Doc. 03-1021 Filed 1-15-03; 8:45 am]

BILLING CODE 4165-15-P